FEDERAL EMERGENCY MANAGEMENT AGENCY

44 CFR Part 67

[Docket No. FEMA-B-7424]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

§ 67.4 Proposed flood elevation determination.

2. The tables published under the authority of § 67.4 are proposed to be amended as follows:

State | City/town/county | Source of flooding | Location | # Depth in feet above ground. *Elevation in feet. (NGDV): Existing | # Depth in feet above ground. *Elevation in feet. (NGDV): Modified
Colorado | Boulder County (Unincorporated Areas) | Bullhead Gulch | At confluence with Boulder Creek | None | *4,991
|  |  | Approximately 50 feet downstream of Burlington Northern Railroad | None | *5,360
| Boulder County (Unincorporated Areas) | Rock Creek | Approximately 3,500 feet downstream of Burlington Northern Railroad | None | *5,371
|  |  | Approximately 9,700 feet upstream of McCaslin Boulevard | None | *5,639
| Boulder County (Unincorporated Areas) | Prince Tributary East Branch | At confluence with Bullhead Gulch | None | *5,026
|  |  | At divergrence of East/West branches | None | *5,056
| Boulder County, Town of Superior and City of Louisville | Coal Creek | Approximately 1,650 feet downstream of Denver Boulder Turnpike | *5,439 | *5,439
|  |  | Approximately 5,200 feet upstream of Community Ditch Diversion | None | *5,689
| Boulder County (Unincorporated Areas) | Prince Tributary West Branch | At confluence with Bullhead Gulch | None | *5,036
|  |  | Approximately 5,750 feet upstream of Isabelle Road | None | *5,178
Depth in feet above ground
Boulder County and Unincorporated Areas:
Maps are available for inspection at Department of Public Works, 1739 Broadway, Suite 300, P.O. Box 791, Boulder, Colorado.
Send comments to the Honorable Ron Stewart, Chairman, Boulder County Board, 1325 Pearl Street, Boulder, Colorado 80302.
City of Louisville, Colorado:
Maps are available for inspection at the City of Louisville, 749 Main Street, Louisville, Colorado.
Send comments to the Honorable Tom Davidson, Mayor, City of Louisville, 49 Main Street, Louisville, Colorado 80027.
Town of Superior, Colorado:
Maps are available for inspection at the Town of Superior, 124 East Coal Creek Drive, Superior, Colorado.
Send comments to the Honorable Ted Asti, Mayor, Town of Superior, 124 East Coal Creek Drive, Superior, Colorado 80027.
Hawaii | Kauai County | Hanalei River | Approximately 1,300 feet upstream of the confluence with Hanalei Bay | *13 | *12
|  |  | At Kuhio Highway (state route 56) | *15 | *16
|  |  | Approximately 6,000 feet upstream of the southern end of USFWSs Pond D | *35 | *38
Depth in feet above ground
Maps are available for inspection at the Department of Public Works, 4444 Rice Street, Suite 175, Lihue, Hawaii.
Send comments to the Honorable Maryann Kusaka, Mayor, Kauai County, 4444 Rice Street, Suite 235, Lihue, Hawaii 96766.
Missouri | Greene County | South Creek | Approximately 0.53 miles (2,800 feet) upstream of County Road 160 | *1,192 | *1,193
|  |  | Approximately 1.16 miles (6,125 feet) upstream of County Road 160 | *1,208 | *1,205
|  | Wilson Creek | Approximately 740 feet downstream of its Confluence with North Branch Wilson Creek | *1,198 | *1,198
|  |  | Approximately 0.69 miles (3650 feet) upstream of the U.S. Highway 160 Bypass | *1,207 | *1,206
|  | South Branch | At its confluence with South Creek | *1,169 | *1,169
|  |  | Just downstream of Farm Road 141 (Cox Avenue) | None | *1,238
|  | Ward Branch | Approximately 130 feet downstream of its confluence with Yarbough Creek | *1,176 | *1,176
|  |  | Approximately 350 feet upstream of Holland Avenue | *1,213 | *1,207
|  | Mount Pleasant Branch | Just downstream of U.S. Highway 160 | *1,182 | *1,207
|  |  | Approximately 200 feet upstream of U.S. Highway 160 | *1,184 | *1,182
|  | Farmer Branch | At its confluence with James River | *1,133 | *1,1333
|  |  | Just downstream of Farm Road 194 | None | *1,85
|  | Pea Ridge Creek | At its confluence with South Dry Sac River | None | *1,133
|  |  | Just downstream of Farm Road 151 | None | *1,190
|  | Dickerson Branch | At its confluence with Pea Ridge Creek | None | *1,113
|  |  | Just downstream of Farm Road 151 | None | *1,175
|  | South Dry Sac River | Approximately 300 feet upstream of its confluence with Little Sac River | None | *1,156
|  |  | Approximately 670 feet upstream of Farm Road 151 | None | *1,091
|  | South Dry Sac River Tributary | Approximately 800 feet upstream of its confluence with South Dry Sac River | None | *1,138
|  |  | Approximately 1,620 feet upstream of Farm Road 167 | None | *1,200
|  | Ward Branch Tributary | At its confluence with Ward Branch | None | *1,253
|  |  | Approximately 260 feet upstream of Weaver Road (Farm Road 178) | None | *1,118
|  | Wilson Creek Tributary | At its confluence with Wilson Creek | None | *1,194
|  |  | Appoximately 300 feet upstream of Highway M (Republic Road) | None | *1,145
|  | Wilson Creek Unmanned Tributary | At its confluence with Wilson Creek | None | *1,241
|  |  | Just downstream of the San Francisco Railway | None | *1,182
|  | Workman Branch | At its confluence with Ward Branch | None | *1,138
|  |  | Just downstream of Farm Road 145 | None | *1,195
|  | Yarborough Creek | Approximately 1,350 feet upstream of its confluence with Ward Branch | None | *1,204
|  |  | Approximately 800 feet upstream of U.S. Highway 160 | None | *1,233
Depth in feet above ground
Maps are available for inspection at the Department of Public Works, City Hall, 625 Fifth Street, Spearfish, South Dakota.
Send Comments to The Honorable Jerry Krambeck, Mayor, City of Spearfish, Cith Hall, 625 Fifth Street, South Dakota 57783-2311.
Oregon | City of Salem | Shelton Ditch | At confluence with Pringle Creek | *148 | *146
|  |  | Approximately 100 feet upstream of Diversion Structure at Mill Creek | *188 | *191
|  | Pringle Creek | At confluence with Williamette River (location shown as confluence of Shelton Ditch with Williamette River on effective Firm) | *143 | *143
|  |  | At confluence of Pringle Creek and East Fork Pringle Creek | *172 | *174
|  | Middle Fork Pringle Creek | At confluence of Pringle Creek and East Fork Pringle Creek | *172 | *174
|  |  | Approximately 150 feet downstream of Interstate 5 | *222 | *219
|  | East Fork Pringle Creek | At confluence with Pringle Creek and Middle Fork Pringle Creek | *172 | *174
|  |  | Approximately 150 feet downstream of Interstate 5 | *219 | *219
|  | Mill Creek B | At confluence with Williamette River | *141 | *141
|  |  | Just upstream of Mission Street | *198 | *199
|  |  | Approximately 3,000 feet upstream of Penitentiary Annex Road | *253 | *254
Depth in feet above ground
Maps are available for inspection at the City of Salem, 555 Liberty Street SE, Salem, Oregon.
Send comments to The Honorable Michael Swain, Mayor, City of Salem, 555 Liberty Street SE, Room 230 Salem, Oregon 97301.
South Dakota | City of Spearfish, Lawrence County | West Chipmunk Gulch | At confluence with Spearfish Creek | *3,574 | *3,574
|  |  | At 960 feet upstream of West Oliver Street | None | *3,663
# Depth in feet above ground
Maps are available for inspection at Department of Public Works, City Hall, 625 Fifth Street, Spearfish, South Dakota.
Send comments to The Honorable Jerry Krambeck, Major, City of Spearfish, City Hall, 625 Fifth Street, Spearfish, South Dakota 57783.
South Dakota | City of Hill City, Pennington County | Spring Creek | At approximately 50 feet upstream of Hill City power line located at approximately 2,000 feet upstream of U.S. Highway 385 and 16 | None | *4,937
|  |  | At approximately 1,400 feet upstream of Poplar Street and Bishop Mountain Avenue Intersection | None | *5,013
|  | Newton Fork Creek | At Museum Drive | None | *4,967
|  |  | Approximately 1,900 feet upstream of Museum Drive | None | *4,981
# Depth in feet above ground
Maps are available for inspection at the City Hall, 324 Main Street, Hill City, South Dakota.
Send comments to The Honorable Peter Stach, Mayor City of Hill City, City Hall, P.O. Box 395, Hill City, South Dakota 57745.

(Catalog of Federal Domestic Assistance No. 83.100, “Flood Insurance”)
Dated: January 29, 2002.
Robert F. Shea,
Acting Administrator, Federal Insurance and Mitigation Administration.

[FR Doc. 02-2660 Filed 2-4-02; 8:45 am]

BILLING CODE 6718-04-P